FEDERAL COMMUNICATIONS COMMISSION

47 CFR Part 73

[DA 03-583; MB Docket No. 03-51, RM-10555]

Radio Broadcasting Services; Dickson and Pegram, TN

AGENCY: Federal Communications Commission.

ACTION: Proposed rule.

SUMMARY: This document sets forth a proposal to amend the FM Table of Allotments, Section 73.202(b) of the Commission's rules, 47 CFR 73.202(b). The Audio Division requests comment on a petition filed by Montgomery Broadcasting Company pursuant to section 1.420(i) of the Commission's rules, 47 CFR 1.420(i). Petitioner proposes to change the community of license for Station WQZQ-FM from Dickson to Pegram, Tennessee, and to change the FM Table of Allotments by deleting Channel 273C1 at Dickson, Tennessee, and by adding Channel 273C1 at Pegram, Tennessee, as the community's first local aural broadcast service. The proposed coordinates for Channel 273C1 at Pegram, Tennessee, are 36-17-50 NL and 87-19-31 WL. The allotment will require a site restriction of 32.9 km (20.5 miles) northwest of Pegram. The change of community from Dickson to Pegram would result in a net loss of 13,341 persons. There would be neither net gain nor loss in the land area served, because the loss and gain area each covers 260 square kilometers. Both the loss area of Channel 273C1 at Dickson and the gain area of Channel 273C1 at Pegram are completely covered by at least five other full-time services, and thus, all areas potentially affected by this proposal would continue to be well-served. Neither Dickson nor Pegram is located within an urbanized area. The existing 70 dBu signal for WQZQ-FM at Dickson covers 100 percent of the Clarksville, Tennessee-Kentucky Urbanized Area and 25.2 percent of the Nashville-Davidson, Tennessee Urbanized Area. The 70 dBu contour of the proposed Channel 273C1 facility at Pegram would cover 100 percent of the Clarksville, Tennessee-Kentucky Urbanized Area and 20.3 percent of the Nashville-Davidson, Tennessee Urbanized Area. Under the circumstances described in the petition, no Tuck analysis will be necessary to evaluate this change of community proposal.

DATES: Comments must be filed on or before April 25, 2003, and reply comments on or before May 12, 2003.

ADDRESSES: Federal Communications Commission, Washington, DC 20554. In addition to filing comments with the FCC, interested parties should serve counsel for the petitioner as follows: John F. Garziglia, Mark Blacknell, Womble, Carlyle, Sandridge & Rice, PLLC, 1776 K Street, NW., Suite 200, Washington, DC 20036.

FOR FURTHER INFORMATION CONTACT: Deborah A. Dupont, Media Bureau (202) 418-7072.

SUPPLEMENTARY INFORMATION: This is a synopsis of the Commission's Notice of Proposed Rule Making, MB Docket No. 03-51; adopted February 26, 2003 and released March 4, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202)863-2893, facsimile (202) 863-2898, or via e-mail qualexint@aol.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Tennessee, is amended by removing Dickson, Channel 273C and by adding Pegram, Channel 273C.

Federal Communications Commission.
John A. Karousos,
Assistant Chief, Audio Division, Media Bureau.

[FR Doc. 03-6096 Filed 3-12-03; 8:45 am]

BILLING CODE 6712-01-P